Title 3—

The President

Proclamation 7960 of November 9, 2005

World Freedom Day, 2005

By the President of the United States of America

A Proclamation

On November 9, 1989, citizens of East Germany crowded the checkpoints at the Berlin Wall and forced their way to freedom. In the ensuing weeks and months, this unquenchable thirst for liberty led to the collapse of the Soviet empire and the downfall of communism in the Soviet Union. Today, most of the Central and Eastern European nations that once formed part of the Soviet bloc are thriving democracies and allies in the cause of peace and freedom.

The fall of the Berlin Wall showed the world that the love of liberty is stronger than the will of tyranny. In this new century, free nations are again responding to a global campaign of terror with a global campaign of freedom. We are working to extend the promise of freedom in our country, to renew the values that sustain our liberty, and to spread the peace that freedom brings.

On World Freedom Day, we commemorate the fall of the Berlin Wall and the reunification of the German people. We honor the men and women who fought against communist oppression and all those who continue to fight against tyranny. We also renew our commitment to advancing liberty, democracy, and human rights.

NOW, THEREFORE, I, GEORGE W. BUSH, President of the United States of America, by virtue of the authority vested in me by the Constitution and laws of the United States, do hereby proclaim November 9, 2005, as World Freedom Day. I call upon the people of the United States to observe this day with appropriate ceremonies and activities and to reaffirm their dedication to freedom and democracy.

IN WITNESS WHEREOF, I have hereunto set my hand this ninth day of November, in the year of our Lord two thousand five, and of the Independence of the United States of America the two hundred and thirtieth.

B

[FR Doc. 05-22743

Filed 11-14-05; 8:45 am]

Billing code 3195-01-P